DEPARTMENT OF THE TREASURY

Internal Revenue Service

Senior Executive Service Performance Review Board

AGENCY: Internal Revenue Service (IRS), Department of the Treasury.

ACTION: Notice.

SUMMARY: To announce a list of senior executives who comprise a standing roster that will serve on IRS's Fiscal Year 2023 Senior Executive Service (SES) Performance Review Boards.

DATES: This list is effective September 1, 2023.

FOR FURTHER INFORMATION CONTACT: Sharnetta A. Walton, Director, Office of Executive Services at (202) 317-3817 or Rachel Winningham, Deputy Director, Office of Executive Services at (801) 620-4488, IRS, 1111 Constitution Avenue NW, Washington, DC 20224.

SUPPLEMENTARY INFORMATION: Pursuant to 5 U.S.C. 4314(c)(4), this board shall review and evaluate the initial appraisals of career senior executives' performance and provide recommendations to the appointing authority on performance ratings, pay adjustments and performance awards. The senior executives are as follows:

Todd A. Anthony

Elizabeth P. Askey

Scott A. Ballint

Robert J. Bedoya

Jennifer L. Best

Orrin D. Byrd

Julia W. Caldwell

Tracey C. Carter

Andrea L. Chapman

Anthony S. Chavez

Robert Choi

James P. Clifford

Amalia C. Colbert

Erin M. Collins

Lucinda J. Comegys

Kenneth C. Corbin

Robert S. Cox

Brenda A. Dial

Joseph Dianto

Donald C. Drake

Sheila Eason

Randolph Edwards

Maryann R. Enciso

Guy A. Ficco

James L. Fish

Sharyn M. Fisk

Julie A. Foerster

Barbara B. Gourley

Dietra D. Grant

Susan B. Greer

Phyllis T. Grimes

Darren J. Guillot

Todd L. Harber

Keith A. Henley

Robert E. Hill

John W. Hinman

Carrie Y. Holland

Karen S. Howard

Teresa R. Hunter

Scott E. Irick

Darren K. James

Barry W. Johnson

Nikki C. Johnson

William H. Kea Jr

Lou Ann Y. Kelleher

Andrew J. Keyso Jr

Edward T. Killen

Jeffrey King

Melanie R. Krause

Kathleen M. Kruchten

James C. Lee

Tracy L. Lee

Ronald J. Leidner Jr

Terry L. Lemons

Sofia Lofvenholm-Enggren

Robert W. Malone

Heather C. Maloy

Paul J. Mamo

Kevin Q. McIver

Kevin M. Morehead

Carolyn M. Morton

Robin L. Moses

Bryan L. Musselman

Douglas W. O'Donnell

Victor G. Onorato

Deborah T. Palacheck

Kaschit D. Pandya

Holly O. Paz

Christopher J. Pleffner

Mark E. Pursley

Scott D. Reisher

Julie A. Robbins

Bridget T. Roberts

Richard L. Rodriguez

Kimberly D. Rogers

Clifford R. Scherwinski

Frederick W. Schindler

Paul E. Selby

Theodore D. Setzer

Tracey L. Showman

Susan A. Simon

Eric D. Slack

Harrison Smith

Tommy A. Smith

Kim S. Stewart

Richard L. Tierney

Guy A. Torres

Jeffrey J. Tribiano

Karen D. Truss

Alfredo Valdespino

Kathleen E. Walters

Darrell S. White

Lavena B. Williams

Maha H. Williams

Lisa S. Wilson

Nancy R. Wiltshire

Max R. Wyche

This document does not meet the Treasury's criteria for significant regulations.

Douglas W. O'Donnell,
Deputy Commissioner for Services & Enforcement, Internal Revenue Service.

[FR Doc. 2023-16224 Filed 7-31-23; 8:45 am]

BILLING CODE P